DEPARTMENT OF TRANSPORTATION

Federal Aviation Administration

RTCA Special Committee 181/EUROCAE Working Group 13: Standards of Navigation Performance

AGENCY: Federal Aviation Administration (FAA), DOT.

ACTION: Notice of RTCA Special Committee 181/EUROCAE Working Group 13 meeting.

SUMMARY: The FAA is issuing this notice to advise the public of a meeting of RTCA Special Committee 181/EUROCAE Working Group 13: Standards of Navigation Performance.

DATES: The meeting will be held January 22-25, 2002 starting at 9:00 am.

ADDRESSES: The meeting will be held at the Quality Suites Hotel Melbourne/Oceanfront, 1665 North State Route A1A, Indialantic, FL, 32903, telephone (321) 723-4222.

FOR FURTHER INFORMATION CONTACT: (1) RTCA Secretariat, 1828 L Street, NW, Suite 805, Washington, DC, 20036; telephone (202) 833-9339; fax (202) 833-9434; Web site http://www.rtca.org; (2) Roger Burns, Rockwell Collins, Inc., telephone (319) 295-4563, E-mail rdburns2@rockwellcollins.com.

SUPPLEMENTARY INFORMATION: Pursuant to section 10(a)(2) of the Federal Advisory Committee Act (Pub. L. 92-463, 5 U.S.C., Appendix 2), notice is hereby given for a Special Committee 181/EUROCAE Working Group 13 meeting. Note: Working Group 1 will meet separately January 22-24. The plenary agenda will include:

• January 25:

• Opening Plenary Session (Chairman Remarks, Review/Approval of Previous Meeting Minutes)

• Working Group Reports

• Review of Required Navigation Performance (RNP) Minimum Operational Performance Standard (MOPS) and Minimum Aviation System Performance Standards (MASPS) Status

• Closing Plenary Session (New Business, Future Meeting Schedule, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 27, 2001.
Janice L. Peters,
FAA Special Assistant, RTCA Advisory Committee.

[FR Doc. 02-488 Filed 1-8-02; 8:45 am]

BILLING CODE 4910-18-M